DEPARTMENT OF COMMERCE

International Trade Administration

[A-570-981, A-552-814]

Utility Scale Wind Towers From the People's Republic of China and the Socialist Republic of Vietnam: Final Results of Expedited Second Sunset Review of Antidumping Duty Orders

AGENCY: Enforcement and Compliance, International Trade Administration, Department of Commerce.

SUMMARY: As a result of this sunset review, the U.S. Department of Commerce (Commerce) finds that revocation of the antidumping duty orders on utility scale wind towers (wind towers) from the People's Republic of China (China) and the Socialist Republic of Vietnam (Vietnam) would be likely to lead to continuation or recurrence of dumping at the levels identified in the “Final Results of Sunset Review” section of this notice.

DATES: Applicable August 12, 2024.

FOR FURTHER INFORMATION CONTACT: Thomas Martin, AD/CVD Operations, Office IV, Enforcement and Compliance, International Trade Administration, U.S. Department of Commerce, 1401 Constitution Avenue NW, Washington, DC 20230; telephone: (202) 482-3936.

SUPPLEMENTARY INFORMATION:

Background

On April 1, 2024, Commerce published the initiation of this sunset review ¹ of the Orders,² pursuant to section 751(c) of the Tariff Act of 1930, as amended (the Act). After initiation, a domestic interested party ³ timely submitted a notice of intent to participate in,⁴ and an adequate substantive response regarding, the reviews.⁵ The Coalition claimed domestic interested party status under section 771(9)(C) of the Act as producers of the domestic like product in the United States.⁶ Commerce did not receive a substantive response from any respondent interested party, nor was a hearing requested. Consequently, on May 22, 2024, Commerce notified the U.S. International Trade Commission that it did not receive an adequate substantive response from any respondent interested parties.⁷ As a result, pursuant to section 751(c)(3)(B) of the Act and 19 CFR 351.218(e)(1)(ii)(C)(2), Commerce conducted an expedited (120-day) sunset review of the Orders. On July 22, 2024, Commerce tolled certain deadlines in this administrative proceeding by seven days.⁸ The deadline for the final results is now August 6, 2024.

¹ See Initiation of Five-Year (Sunset) Reviews, 89 FR 22373 (April 1, 2024).

² See Utility Scale Wind Towers from the People's Republic of China: Antidumping Duty Order, 78 FR 11146 (February 15, 2013); see also Utility Scale Wind Towers from the Socialist Republic of Vietnam: Amended Final Determination of Sales at Less Than Fair Value and Antidumping Duty Order, 78 FR 11150 (February 15, 2013) (collectively, Orders).

³ The domestic interested party is the Wind Tower Trade Coalition (Coalition), whose individual members are Arcosa Wind Towers, LLC, Broadwind Inc., and Ventower Industries LLC (Ventower).

⁴ See Coalition's Letter, “Notice of Intent to Participate in Sunset Review,” dated April 15, 2024. (Note the Coalition also identified Ventower Industries LLC as a domestic producer and interested party.).

⁵ See Coalition's Letter, “Substantive Response to Notice of Initiation of Sunset Review,” dated April 30, 2024.

⁶ Id.

⁷ See Commerce's Letter, Sunset Reviews for April 2024,” dated May 22, 2024; see also 19 CFR 351.218(e)(1)(ii)(C)(1).

⁸ See Memorandum, “Tolling of Deadlines for Antidumping and Countervailing Duty Proceedings,” dated July 22, 2024.

Scope of the Orders

The merchandise covered by the Orders is certain wind towers, whether or not tapered, and sections thereof. Merchandise covered by the Orders is currently classified in the Harmonized Tariff System of the United States (HTSUS) under subheadings 7308.20.002010 or 8502.31.0000.11. Prior to 2011, merchandise covered by the Orders was classified in the HTSUS under subheading 7308.20.0000 and may continue to be to some degree. While the HTSUS subheadings are provided for convenience and customs purposes, the written description of the subject merchandise is dispositive. For a complete description of the scope of the Order, see the Issues and Decision Memorandum.⁹

⁹ See Memorandum, “Issues and Decision Memorandum for the Final Results of the Expedited Second Sunset Reviews of the Antidumping Duty Orders on Utility Scale Wind Towers from the People's Republic of China and the Socialist Republic of Vietnam,” dated concurrently with, and hereby adopted by, this notice (Issues and Decision Memorandum).

Analysis of Comments Received

All issues raised in this sunset review are addressed in the Issues and Decision Memorandum. A list of topics discussed in the Issues and Decision Memorandum is included in the appendix to this notice. The Issues and Decision Memorandum is a public document and is on file electronically via the Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Review

Pursuant to sections 751(c)(1), 752(c)(1) and (3) of the Act, Commerce determines that revocation of the Orders would likely lead to continuation or recurrence of dumping, and that the magnitude of the dumping margins likely to prevail are weighted-average dumping margins up to 60.02 percent for China and up to 58.54 percent for Vietnam.

Administrative Protective Order

This notice serves as the only reminder to parties subject to an administrative protective order (APO) of their responsibility concerning the return or destruction of proprietary information disclosed under APO in accordance with 19 CFR 351.305(a). Timely notification of the return or destruction of APO materials or conversion to judicial protective order, is hereby requested. Failure to comply with the regulations and terms of an APO is a violation which is subject to sanction.

Notification to Interested Parties

We are issuing and publishing the final results and this notice in accordance with sections 751(c), 752(c), and 777(i)(1) of the Act, and 19 CFR 351.218(e)(1)(ii)(C)(2) and 19 CFR 351.221(c)(5)(ii).

Dated: August 6, 2024.
Scot Fullerton,
Acting Deputy Assistant Secretary for Antidumping and Countervailing Duty Operations.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely To Prevail

VII. Final Results of Sunset Reviews

VIII. Recommendation

[FR Doc. 2024-17856 Filed 8-9-24; 8:45 am]

BILLING CODE 3510-DS-P